SMALL BUSINESS ADMINISTRATION

[Declaration of Disaster #3366; Amendment #2]

Commonwealth of Virginia

The above-numbered declaration is hereby amended to extend the deadline for filing applications for economic injury as a result of this disaster to January 31, 2003. All other information remains the same.

(Catalog of Federal Domestic Assistance Program Nos. 59002 and 59008)
Dated: October 9, 2002.
Herbert L. Mitchell,
Associate Administrator for Disaster Assistance.

[FR Doc. 02-26549 Filed 10-17-02; 8:45 am]

BILLING CODE 8025-01-P